DEPARTMENT OF THE INTERIOR

Bureau of Land Management

[MT-921-06-1320-EL-P; NDM 95104]

Notice of Coal Lease Application—NDM 95104—BNI COAL

AGENCY: Bureau of Land Management, Department of the Interior.

ACTION: Notice.

SUMMARY: BNI Coal Company's Coal Lease Application NDM 95104 for certain coal resources within the Fort Union Coal Region. The land included in Coal Lease Application NDM 95104 is located in Oliver County, North Dakota, and is described as follows:

T. 142 N., R. 84 W., 5th P. M.

Sec. 28: W½

The 320.00 acre tract contains an estimated 3.6 million tons of recoverable coal reserves.

The application will be processed in accordance with the provisions of the Mineral Leasing Act of 1920, as amended (30 U.S.C. 181, et seq.), and the implementing regulations at 43 CFR 3400. A decision to allow leasing of the coal reserves in said tract will result in a competitive lease sale to be held at a time and place to be announced through publication pursuant to 43 CFR Part 3422.

SUPPLEMENTARY INFORMATION: BNI Coal is the lessee and operator of the Center Mine. The entire area included within this lease application lies within the Center Mine BNCR-9702 permit area.

The area applied for would be mined as an extension of the Center Mine and would utilize the same methods as those currently being used. The lease being applied for can extend the life of the mine by about 10 months. And enable recovery of coal that might never be mined if not mined as a logical extension of current pits.

Notice of Availability: The application is available for review between the hours of 9 a.m. and 4 p.m. at the Bureau of Land Management, Montana State Office, 5001 Southgate Drive, Billings, Montana 59101, and at the Bureau of Land Management, Dakotas District Office, whose address is 2033 Third Avenue West, Dickinson, North Dakota 58601-2619, between the hours of 8 a.m. and 4 p.m.

FOR FURTHER INFORMATION CONTACT: Rebecca Spurgin, Coal Coordinator, at telephone 406-896-5080, Bureau of Land Management, Montana State Office, 5001 Southgate Drive, P.O. Box 36800, Billings, Montana 59107-6800.

Dated: November 17, 2005.
Edward L. Hughes,
Acting Chief, Branch of Solid Minerals.

[FR Doc. E5-6643 Filed 11-28-05; 8:45 am]

BILLING CODE 4310-P